DEPARTMENT OF THE INTERIOR

Fish and Wildlife Service

[FWS-R9-EA-2011-N004; 6012PBD01 68]

U.S. Coral Reef Task Force Public Meeting and Public Comment

AGENCY: Fish and Wildlife Service, Interior.

ACTION: Notice of public meeting; request for public comment.

SUMMARY: We, the U.S. Fish and Wildlife Service (Service), announce a public business meeting of the U.S. Coral Reef Task Force (USCRTF) on February 24, 2011, and a request for written comments. This meeting, the 25th biannual meeting of the USCRTF, provides a forum for coordinated planning and action among Federal agencies, State and territorial governments, and nongovernmental partners. Please register in advance by visiting the Web site under SUPPLEMENTARY INFORMATION. Advance public comment must be submitted by February 19, 2011, to Liza Johnson at the e-mail, fax, or mailing address listed below. This meeting has time allotted for sharing of in-person public comments, which must be submitted in written format by March 12, 2011.

ADDRESSES: The meeting will take place at the Department of Interior, Main Interior Building Auditorium, 1849 C Street, NW., Washington, DC 20240.

DATES: Please be aware of the following dates:

• Advance public comments: Submit to Liza Johnson at the e-mail, fax, or mailing address listed below by February 19, 2011.

• Registration for Meeting: Registration is required for the business meeting. Registration online prior to the meeting date is recommended.

• Business Meeting: The business meeting is scheduled to take place on Thursday, February 24, 2011.

• Public Comments to be given at meeting: Submit in writing to Liza Johnson at the e-mail, fax, or mailing address listed below by March 12, 2011.

FOR FURTHER INFORMATION CONTACT: Andrew Gude, DOI (FWS) USCRTF Steering Committee Point of Contact, U.S. Department of the Interior, MS-3530-MIB, 1849 C Street, NW., Washington, DC 20240 (phone: 202-208-6211; fax: 202-208-4867; e-mail: Andrew_Gude@fws.gov); or Liza Johnson, U.S. Coral Reef Task Force Department of the Interior Liaison, U.S. Department of the Interior, MS-3530-MIB, 1849 C Street, NW., Washington, DC 20240 (phone: 202-208-1378; fax: 202-208-4867; e-mail: Liza_M_Johnson@ios.doi.gov); or visit the USCRTF Web site at http://www.coralreef.gov.

SUPPLEMENTARY INFORMATION: Established by Presidential Executive Order 13089 in 1998, the USCRTF has a mission to lead, coordinate, and strengthen U.S. government actions to better preserve and protect coral reef ecosystems. The Departments of Commerce and the Interior co-chair the USCRTF, whose members include leaders of 12 Federal agencies, 7 U.S. States and territories, and 3 freely associated States. For more information about the meeting, draft agendas, and how to register, go to http://www.coralreef.gov. A written summary of the meeting will be posted on the Web site within 2 months after the meeting.

Public Comments

Comments may address the meeting, the role of the USCRTF, or general coral reef conservation issues.

Public Availability of Comments

Before including your address, phone number, e-mail address, or other personal identifying information in your comment, you should be aware that your entire comment—including your personal identifying information—may be made publicly available at any time. While you can ask us in your comment to withhold your personal identifying information from public review, we cannot guarantee that we will be able to do so.

Tom Strickland,
Assistant Secretary for Fish and Wildlife and Parks.

[FR Doc. 2011-3014 Filed 2-9-11; 8:45 am]

BILLING CODE 4310-55-P